DEPARTMENT OF THE INTERIOR

Bureau of Land Management

[UTW0000000-LR14300000-ET0000; UTU-65685]

Notice of Proposed Withdrawal Extension and Notification of a Public Meeting; Utah

AGENCY: Bureau of Land Management, Interior.

ACTION: Notice.

SUMMARY: The Assistant Secretary of the Interior proposes to extend the duration of Public Land Order (PLO) No. 6941, for an additional 20-year term. PLO No. 6941 withdrew 30,203.56 acres of public land from settlement, sale, location, or entry under the general land laws, including the United States mining laws, to protect the Bonneville Salt Flats (BSF). This notice also corrects the acreage figure in PLO No. 6941 which should read 30,203.06 acres. This notice gives an opportunity for the public to comment on the proposed withdrawal extension and announces the date, time, and location of a public meeting.

DATES: Comments must be received on or before March 27, 2012. Notice is hereby given that a public meeting will be held on February 13, 2012.

ADDRESS: Comments should be sent to the Utah State Director, Bureau of Land Management, P.O. Box 45155, Salt Lake City, Utah 84145-0155.

FOR FURTHER INFORMATION CONTACT: Shauna Derbyshire, Bureau of Land Management, Utah State Office, (801) 539-4132, Shauna_Derbyshire@blm.gov.

Persons who use a telecommunications device for the deaf (TDD) may call the Federal Information Relay Service (FIRS) at 1-(800) 877-8339 to contact the above individual during normal business hours. The FIRS is available 24 hours a day, 7 days a week, to leave a message or question with the above individual. You will receive a reply during normal business hours.

SUPPLEMENTARY INFORMATION: The withdrawal created by PLO No. 6941 (57 FR 34685 (1992)), will expire on August 5, 2012, unless it is extended. PLO No. 6941 is incorporated herein by reference. The Bureau of Land Management (BLM) filed a petition/application to extend PLO No. 6941 for an additional 20-year term. The PLO withdrew 30,203.56 acres of public land from settlement, sale, location, or entry under the general land laws, including the United States mining laws, but not from leasing under the mineral leasing laws, to protect the BSF. As a result of a review by the BLM Utah State Office Cadastral Surveyor, that acreage figure was determined to be incorrect and is hereby corrected to read 30,203.06 acres.

The purpose of the proposed extension is to continue the protection of the BSF and its unique geologic, visual, historic, and recreational resources and to continue to manage the BSF as a resource of national and international significance for land speed record events of many types, commercial filming and photography, sight-seeing, and other appropriate recreational activities.

The use of a right-of-way, interagency, or cooperative agreement, Special Recreation Management Area designation, or Area of Critical Environmental Concern designation would not provide adequate protection.

There are no suitable alternative sites available.

Water will not be needed to fulfill the purpose of the requested withdrawal extension.

On or before March 27, 2012, all persons who wish to submit comments, suggestions, or objections in connection with the proposed withdrawal extension may present their views in writing to the BLM Utah State Director at the address above. Electronic mail, facsimile, or telephone comments will not be considered properly filed.

Comments, including names and street addresses of respondents, and records relating to the application will be available for public review at the BLM Utah State Office, 440 West 200 South, Suite 500, Salt Lake City, Utah, during regular business hours.

Before including your address, phone number, email address, or other personal identifying information in your comments, be advised that your entire comment—including your personal identifying information—may be made publicly available at any time. While you can ask us in your comment to withhold from public review your personal identifying information, we cannot guarantee that we will be able to do so. Individual respondents may request confidentiality.

Notice is hereby given that a public meeting in conjunction with the proposed withdrawal extension will be held on February 13, 2012 at the BLM Salt Lake Field Office, 2370 South 2300 West, Salt Lake City, Utah. A notice of the time and place will also be published in at least one newspaper of local jurisdiction no less than 30 days before the scheduled meeting date. Interested parties may make oral statements and may file written statements at the meeting. All statements received will be considered before any final action is taken on the proposed extension.

The application will be processed in accordance with the regulations set forth in 43 CFR 2310.4.

Authority: 43 CFR 2310.3-1.

Juan Palma,
State Director.

[FR Doc. 2011-33237 Filed 12-27-11; 8:45 am]

BILLING CODE 4310-DQ-P